DEPARTMENT OF AGRICULTURE

Office of the Secretary

Notice of Appointment of Members to the Specialty Crop Committee

AGENCY: Research, Education, and Economics, USDA.

ACTION: Appointment of members.

SUMMARY: The Specialty Crops Competitiveness Act of 2004, Pub. L. 108-465, Title III, Sec. 303, amends the National Agricultural Research, Extension, and Teaching Policy Act of 1977 to insert after section 1408 (7 U.S.C. 3123) the following new section: “Sec. 1408A. Specialty Crop Committee.” This notice announces the individuals who were recently appointed to the Specialty Crop Committee by the Executive Committee of the USDA National Agricultural Research, Extension, Education, and Economics Advisory Board, as required in the legislation. Four of the eight appointees are members serving terms on the Advisory Board. The members of the Specialty Crop Committee are as follows: Chair, Dr. Walter Armbruster, President, Farm Foundation, Oak Brook, IL; Dr. Jeffrey Armstrong, Dean, College of Agriculture and Natural Resources, Michigan State University, East Lansing, MI; Mr. Daniel Botts, Director, Environment and Pest Management Division, Florida Fruit and Vegetable Association, Maitland, FL; Dr. Nancy Cremer, Director, Center for Environmental Farming Systems, North Carolina State University, Raleigh, NC; Mr. James Lugg, President, TransFRESH Corporation, Salinas, CA; Mr. William J. Lyons, Jr., Former California Secretary of Agriculture and Owner, Mape's Ranch, Modesto, CA; Dr. Philip Nelson, Scholle Chair Professor, Department of Food Sciences, Purdue University, West Lafayette, IN; Mr. Craig Regelbrugge, Senior Director, American Nursery and Landscape Association, Washington, DC. The Specialty Crop Committee is a permanent committee, whose members serve at the discretion of the Advisory Board's Executive Committee.

DATES: Members to the Specialty Crop Committee were appointed by the Executive Committee of the USDA National Agricultural Research, Extension, Education, and Economics Advisory Board during the Board's March 9-11, 2005 public meeting in Washington, DC.

ADDRESSES: National Agricultural Research, Extension, Education, and Economics Advisory Board; Room 344A, Jamie L. Whitten Building; U.S. Department of Agriculture; STOP 2255; 1400 Independence Avenue, SW. Washington, DC 20250-2255.

FOR FURTHER INFORMATION CONTACT: Deborah Hanfman, Executive Director, National Agricultural Research, Extension, Education, and Economics Advisory Board; Room 344A, Jamie L. Whitten Building; U.S. Department of Agriculture, STOP 2255; 1400 Independence Avenue, SW.; Washington, DC 20250-2255. Telephone: 202-720-3684 Fax: 202-720-6199; or e-mail: dhanfman@csrees.usda.gov

SUPPLEMENTARY INFORMATION: The Specialty Crop Committee is responsible for studying the scope and effectiveness of research, extension, and economics programs affecting the specialty crop industry. The term “specialty crop” means fruits and vegetables, tree nuts, dried fruits, and nursery crops (including floriculture). Findings contained in the Specialty Crop Committee's annual study along with recommendations that address items specified in the legislation will be submitted in a report to the Advisory Board. Those findings and recommendations approved by the Board will be considered by the Secretary in preparing annual budget recommendations for the Department of Agriculture.

Done at Washington, DC this 5th day of May 2005.
Joseph J. Jen,
Under Secretary, Research, Education, and Economics.

[FR Doc. 05-9540 Filed 5-12-05; 8:45 am]

BILLING CODE 3410-22-P